DEPARTMENT OF LABOR

Occupational Safety And Health Administration

Advisory Committee on Construction Safety and Health; Notice of Open Meeting

AGENCY: Occupational Safety and Health Administration (OSHA), Labor.

ACTION: Notice of a meeting of the Advisory Committee on Construction Safety and Health (ACCSH).

SUMMARY: ACCSH will meet February 13, 2003, in Rosemont, Illinois. This meeting is open to the public.

TIME AND DATE: ACCSH will meet from 8:30 a.m. to 5 p.m., Thursday, February 13.

PLACE: ACCSH will meet at the Hyatt Regency O'Hare, 9300 West Bryn Mawr Avenue, Rosemont, Illinois.

FOR FURTHER INFORMATION CONTACT: For general information about ACCSH and ACCSH meetings: Jim Boom, OSHA, Directorate of Construction, Room N-3476, U.S. Department of Labor, 200 Constitution Avenue, NW., Washington, DC 20210; telephone 202-693-1839. For information about submission of comments, requests to speak, and the need for accommodations for the meeting: Veneta Chatmon, OSHA, Office of Public Affairs, Room N-3647, U.S. Department of Labor, 200 Constitution Avenue, NW., Washington, DC 20210; telephone 292-693-1999.

Electonic copies of this Federal Register notice, as well as information about ACCSH workgroups and other relevant documents, are available at OSHA's Web page on the Internet at http://www.osha.gov.

SUPPLEMENTARY INFORMATION: ACCSH will meet February 13, 2003, in Rosemont, Illinois. This meeting is open to the public. The agenda for this meeting includes:

• Update Region V—Mike Connors, Regional Administrator

• Remarks by the Assistant Secretary for the Occupational Safety and Health Administration, John L. Henshaw

• Directorate of Construction report

• Highway Work Zone Safety

• Subpart V—Power Transmission and Distribution

• Silica

• Hearing Conservation In Construction

• Assigned Protection Factors for Respirators

• Update—OSHA Training Institute

• Workgroup Reports

• Public Comment (During this period, any member of the public is welcome to address ACCSH about construction-related safety and health issues. See information below to request time to speak at the meeting.)

All ACCSH meetings are open to the public. An official record of the meeting will be available for public inspection at the OSHA Docket Office, Room N-2625, at the address above, telephone (202)-693-2350. Individuals needing special accommodations should contact Ms. Chatmon no later than February 3, 2003, at the address above.

Interested parties may submit written data, views or comments, preferably with 20 copies, to Ms. Chatmon, at the address above. OSHA will provide submissions received prior to the meeting to ACCSH members and will include each submission in the record of the meeting. Attendees may also request to make an oral presentation by notifying Veneta Chatmon before the meeting at the address above. The request must state the amount of time desired, the interest represented by the presenter (e.g., the names of the business, trade association, government Agency), if any, and a brief outline of the presentation. The Chair of ACCSH may grant the request at his discretion and as time permits.

Authority: John L. Henshaw, Assistant Secretary of Labor for Occupational Safety and Health, directed the preparation of this notice under the authority granted by section 7 of the Occupational Safety and Health Act of 1970 (29 U.S.C. 656) section 107 of the Contract Work Hours and Safety Standards Act (Construction Safety Act) (40 U.S.C. 333), and Secretary of Labor's Order No. 5-2002 (67 FR 65008).

Signed at Washington, DC, this 21st day of January, 2003.
John L. Henshaw,
Assistant Secretary of Labor.

[FR Doc. 03-1852 Filed 1-27-03; 8:45 am]

BILLING CODE 4510-26-M